DEPARTMENT OF ENERGY

Federal Energy Regulatory Commission

Combined Notice of Filings

Take notice that the Commission has received the following Natural Gas Pipeline Rate and Refund Report filings:

Filings Instituting Proceedings

Docket Numbers: RP12-584-000.

Applicants: Gulf South Pipeline Company, LP.

Description: HK 37731 to Texla 39774 Capacity Release Negotiated Rate Agreement filing to be effective 4/1/2012.

Filed Date: 4/2/12.

Accession Number: 20120402-5159.

Comments Due: 5 p.m. ET 4/16/12.

Docket Numbers: RP12-585-000.

Applicants: Gulf Crossing Pipeline Company LLC.

Description: Newfield 18 to Tenaska 458 Capacity Release Negotiated Rate Agreement filing to be effective 4/1/2012.

Filed Date: 4/2/12.

Accession Number: 20120402-5228.

Comments Due: 5 p.m. ET 4/16/12.

Docket Numbers: RP12-586-000.

Applicants: Gulf South Pipeline Company, LP.

Description: UMDG Non-conforming Agreements Filing to be effective 4/1/2012.

Filed Date: 4/2/12.

Accession Number: 20120402-5290.

Comments Due: 5 p.m. ET 4/16/12.

Docket Numbers: RP12-587-000.

Applicants: Golden Triangle Storage, Inc.

Description: Administrative Revisions to Contact Information in FERC Gas Tariff to be effective 4/6/2012.

Filed Date: 4/3/12.

Accession Number: 20120403-5109.

Comments Due: 5 p.m. ET 4/16/12.

Docket Numbers: RP12-588-000.

Applicants: Dominion Transmission, Inc.

Description: DTI—April 3, 2012 Negotiated Rate Agreements Clarification and Admin. Update to be effective 4/4/2012.

Filed Date: 4/3/12.

Accession Number: 20120403-5166.

Comments Due: 5 p.m. ET 4/16/12.

Docket Numbers: RP12-589-000.

Applicants: Iroquois Gas Transmission System, L.P.

Description: 04/04/12 Negotiated Rates—United Energy Trading, LLC (RTS) to be effective 4/5/2012.

Filed Date: 4/4/12.

Accession Number: 20120404-5179.

Comments Due: 5 p.m. ET 4/16/12.

Docket Numbers: RP12-590-000.

Applicants: Rockies Express Pipeline LLC.

Description: Negotiated Rate 2012-04-04 Encana to be effective 4/5/2012.

Filed Date: 4/4/12.

Accession Number: 20120404-5184.

Comments Due: 5 p.m. ET 4/16/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: April 5, 2012.
Nathaniel J. Davis, Sr.
Deputy Secretary.

[FR Doc. 2012-8957 Filed 4-12-12; 8:45 am]

BILLING CODE 6717-01-P